NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 12, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Animal and Plant Health Inspection Service (N1-463-10-3, 3 items, 3 temporary items). Web site records, including web management and operations files, logs, and web content that is not unique. Unique web content will be managed in accordance with previously approved schedules or schedules that will be submitted in the future.

2. Department of Agriculture, Food and Nutrition Service (N1-462-09-7, 3 items, 3 temporary items). Web site records, including web management and operations files, logs, and web content that is not unique. Unique web content will be managed in accordance with previously approved schedules or schedules that will be submitted in the future.

3. Department of Education, Agency-wide (N1-441-09-4, 6 items, 5 temporary items). Background files relating to the development and issuance of rules and regulations. Included are such records as internal memorandums, files relating to the agency's semi-annual regulatory agenda, and electronic master data files containing proposed rules, supporting analyses, and comments on agency rules that are included in the government-wide Federal Docket Management System. Proposed for permanent retention are final rules and related decision memorandums signed by senior officials.

4. Department of Education, Agency-wide (N1-441-09-12, 6 items, 6 temporary items). Grant files and other records relating to the construction, maintenance, and renovation of facilities at education institutions. Included are master files of an electronic information system that contains data concerning the application process and financial transactions.

5. Department of Health and Human Services, Administration on Aging (N1-439-09-6, 12 items, 6 temporary items). Records relating to communications matters, included such records as photographs that are not mission-related, media advisories, daily news summaries, fact sheets, and response to public inquiries. Proposed for permanent retention are such records as mission-related photographs, annual reports of agency accomplishments, press releases, and files relating to educational campaigns.

6. Department of the Interior, Office of the Secretary (N1-48-10-2, 15 items, 13 temporary items). Records accumulated by the Office of Budget, including such records as background files relating to the presentation of the President's budget to Congress, budget formulation records, budget execution files, subject files, files relating to congressional travel coordinated or funded by the agency, and files related to investment in information technology. Also included are master files of an electronic information system which supports budget formulation and execution. Proposed for permanent retention are budget publications and press releases as well as the annual payment book, which documents compensation provided to local governments whose jurisdiction includes Federal lands that are exempt from taxation.

7. Department of Justice, Civil Division (N1-60-10-16, 1 item, 1 temporary item). Documents that are attorney-client privileged that are included in case files relating to cases where the agency provides legal representation to Federal employees or former employees who are sued, subpoenaed, or charged in an individual capacity based on actions they took in connection with their official position.

8. Department of Justice, Justice Management Division (N1-60-10-5, 2 items, 1 temporary item). Records relating to the formulation of agency strategic plans. Final versions of plans are proposed for permanent retention.

9. Department of Justice, Justice Management Division (N1-60-10-7, 2 items, 1 temporary item). Background files for management improvement studies relating to agency policies, procedures, and organizational structure. Final versions of the resulting reports are proposed for permanent retention.

10. Department of Justice, Office of the Inspector General (N1-60-09-67, 1 item, 1 temporary item). Master files of an electronic information used to track workflow and the status of inspection and evaluation recommendations.

11. Department of Justice, Bureau of Prisons (N1-129-09-36, 2 items, 2 temporary items). Content records maintained on the agency's internal web site, such as memorandums, newsletters, and other records relating to agency initiatives, programs, and procedures. Included are copies of documents maintained elsewhere as well as materials that are unique.

12. Department of Justice, Bureau of Prisons (N1-129-09-37, 9 items, 9 temporary items). Records included in an electronic information system used by the Office of General Counsel's Commercial Law Branch. Records relate to contracting issues, including such matters as use of the Bureau seal, allegations of fraud, contract advice, policy reviews, contract protest cases, contract appeals cases, and other litigation.

13. Department of State, Bureau of Administration (N1-59-10-13, 1 item, 1 temporary item). Master files of an electronic information system that contains emergency contact information for agency employees and contractors.

14. Department of State, Bureau of International Information Programs (N1-59-09-11, 4 items, 3 temporary items). Records of the Office of U.S. Speaker and Specialist Programs, including administrative records and chronological files. Policy and program records are proposed for permanent retention.

15. Department of State, Bureau of International Information Programs (N1-59-09-20, 2 items, 1 temporary item). Subject/project files of the Office of Current Issues. Proposed for permanent retention are electronic records output from a system used to compile content for a web site on U.S. foreign policy and related matters that is geared to foreign audiences.

16. Department of Transportation, Federal Railroad Administration (N1-399-07-17, 9 items, 5 temporary items). Records relating to Federal advisory committees, boards, and councils and to inter- and intra-agency bodies as well as rulemaking committees. Included are such records as drafts of minutes, agendas, and files relating to rules that were never published. Proposed for permanent retention are such records as files relating to rules that were published and minutes, agendas, reports, and other records accumulated by bodies for which the agency serves as chair or secretariat.

17. Department of Transportation, Federal Railroad Administration (N1-399-07-23, 7 items, 7 temporary records). Records of the Office of Civil Rights, including such records as files relating to programs for the disabled, employee alternative dispute resolution files, diversity program files, and programs aimed at groups who are under-represented in the Federal workforce.

18. Department of Transportation, Federal Railroad Administration (N1-399-10-2, 1 item, 1 temporary item). Master files of an electronic information system that contains data concerning the agency's investments in information technology.

19. Department of the Treasury, Office of Inspector General (N1-56-09-22, 4 items, 4 temporary items). Master files and outputs, including statistical reports, of an electronic information system that contains data on hotline allegations that were not forwarded to the investigative division for action.

20. Department of the Treasury, Special Inspector General for the Troubled Asset Relief Program (N1-56-10-1, 13 items, 8 temporary items). Legal opinions that lack historical significance, routine correspondence files, litigation case files that lack historical significance, allegations and related documents that pertain to matters that do not result in a formal investigation, routine audit files, and audit planning and tracking records. Proposed for permanent retention are such records as historically significant legal opinions and litigation cases, substantive correspondence, and significant audit case files.

21. Department of the Treasury, Alcohol and Tobacco Tax and Trade Bureau (N1-564-09-4, 1 item, 1 temporary item). Master files of an electronic information system used to track submissions of specially denatured alcohol and non-beverage drawback alcohol sent for laboratory analysis.

22. Department of the Treasury, Internal Revenue Service (N1-58-09-95, 8 items, 8 temporary items). Master files, outputs, and system documentation associated with an electronic information system used to exchange information with Federal Reserve Banks.

23. Department of the Treasury, U.S. Mint (N1-104-09-5, 7 items, 7 temporary items). Records relating to the agency's public and internal web sites, including web content records, records relating to web site development, and web site administration and operation files.

24. Abraham Lincoln Bicentennial Commission, Agency-wide (N1-220-10-1, 17 items, 6 temporary items). Records relating to such matters as fundraising, contracts granting permission to use the Commission logo, and the design and management of the Commission's web site. Also included are background materials relating to Commission programs, such as reference files and logistical records. Proposed for permanent retention are such records as reports to Congress, the Commission web site, the Executive Director's correspondence, and files relating to programs and events.

25. Office of the Director of National Intelligence, Office of the Chief of Protocol (N1-576-09-4, 8 items, 6 temporary items). Office copies of agency policy files, non-substantive working papers, and records relating to such matters as travel arrangements for foreign visitors and the award of the National Security Medal. Proposed for permanent retention are case files relating to visits made by foreign dignitaries and senior U.S. Government officials.

Dated: June 7, 2010.
Michael J. Kurtz,
Assistant Archivist for Records Services—Washington, DC.

[FR Doc. 2010-14227 Filed 6-10-10; 8:45 am]

BILLING CODE 7515-01-P